NATIONAL SCIENCE FOUNDATION

Notice of Permit Applications Received Under the Antarctic Conservation Act of 1978

AGENCY: National Science Foundation.

ACTION: Notice of Permit Applications Received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by February 7, 2022. This application may be inspected by interested parties at the Permit Office, address below.

ADDRESSES: Comments should be addressed to Permit Office, Office of Polar Programs, National Science Foundation, 2415 Eisenhower Avenue, Alexandria, Virginia 22314 or ACApermits@nsf.gov.

FOR FURTHER INFORMATION CONTACT: Polly Penhale, ACA Permit Officer, at the above address, 703-292-8030.

SUPPLEMENTARY INFORMATION: The National Science Foundation, as directed by the Antarctic Conservation Act of 1978 (Pub. L. 95-541, 45 CFR 670), as amended by the Antarctic Science, Tourism and Conservation Act of 1996, has developed regulations for the establishment of a permit system for various activities in Antarctica and designation of certain animals and certain geographic areas as requiring special protection. The regulations establish such a permit system to designate Antarctic Specially Protected Areas.

Application Details

Permit Application: 2022-027

1. Applicant: Richard Bailey, Deneb US LLC, 50 Old Courthouse Sq. #404, Santa Rosa CA 95405.

Activity for Which Permit is Requested: Waste Management. The applicant seeks an Antarctic Conservation Act permit for waste management activities associated with a planned flight expedition to Antarctica. The applicant proposes conducting a polar circumnavigation originating in Punta Arenas, Chile, with two planned refueling stops at a Chilean Airfield on King George Island. Upon each landing at King George Island, the aircraft will be refueled using pre-provided fuel by trained crewmembers. The aircraft is equipped with an anti-pollution kit in the event of any fuel spills and mitigation measures are in place in the event of accidental release of fuel.

Location: King George Island, Antarctica.

Dates of Permitted Activities: February 1, 2022-February 28, 2022.

Erika N. Davis,
Program Specialist, Office of Polar Programs.

[FR Doc. 2022-00002 Filed 1-5-22; 8:45 am]

BILLING CODE 7555-01-P